DEPARTMENT OF THE INTERIOR

National Park Service

[NPS-WASO-NRNHL-24753; PPWOCRADI0, PCU00RP14.R50000]

National Register of Historic Places; Notification of Pending Nominations and Related Actions

AGENCY: National Park Service, Interior.

ACTION: Notice.

SUMMARY: The National Park Service is soliciting comments on the significance of properties nominated before December 9, 2017, for listing or related actions in the National Register of Historic Places.

DATES: Comments should be submitted by January 19, 2018.

ADDRESSES: Comments may be sent via U.S. Postal Service and all other carriers to the National Register of Historic Places, National Park Service, 1849 C St. NW, MS 7228, Washington, DC 20240.

SUPPLEMENTARY INFORMATION:

The properties listed in this notice are being considered for listing or related actions in the National Register of Historic Places. Nominations for their consideration were received by the National Park Service before December 9, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ILLINOIS

Bureau County

Princeton North Main Street Historic District, Primarily 900-1000 blks. of N Main & 000 blk. of W Long Sts., Princeton, SG100001968

Princeton South Main Street—Courthouse Square Historic District, Primarily 500 & 600 blks. of S Main St. & Courthouse Sq., Princeton, SG100001969

Cook County

Promontory Point, 5491 S Shore Dr., Chicago, SG100001970

IOWA

Clarke County

Osceola Commercial Historic District, S Fillmore, N & S Main, E & W Jefferson & E & W Washington Sts., Osceola, SG100001971

Scott County

Davenport Bag and Paper Company Building, 301 E 2nd St., Davenport, SG100001972

MINNESOTA

Hennepin County

Northrop Mall Historic District, Roughly bounded by Pillsbury Drive SE, E River, & Union & Delaware Sts. SE, Minneapolis, SG100001973

Ramsey County

Schmidt, Jacob, Brewing Company Historic District, Roughly bounded by line between Lots 17 & 18 of Stinson & Ramsey's subdiv., W James Ave, Toronto & W Jefferson Sts., St Paul, SG100001974

PENNSYLVANIA

Allegheny County

Boys' Club of Pittsburgh, 212 45th St., Pittsburgh, SG100001976

UTAH

Carbon County

Great Hunt Panel, The, (Nine Mile Canyon, Utah MPS), Nine Mile Canyon Rd., Price vicinity, MP100001978

Davis County

Layton Oregon Short Line Railroad Station, 200 S Main St., Layton, SG100001979

Salt Lake South East and North West Base Monuments (Salt Lake Base Line), 1002 S 3200 West & 209 South 4500 West, Layton vicinity, SG100001980

Utah County

Coddington, Thomas and Elizabeth, House, (American Fork, Utah MPS), 190 North 300 East, American Fork, MP100001982

Herbert, James and Emily, House, (American Fork, Utah MPS), 388 W Main St., American Fork, MP100001983

Singleton, Robert and Mary Ann, House, (American Fork, Utah MPS), 740 East 40 South, American Fork, MP100001984

Singleton, Thomas and Eliza Jane, House, (American Fork, Utah MPS), 778 East 50 South, American Fork, MP100001985

A request for removal has been made for the following resource:

SOUTH DAKOTA

Miner County

Wheeler Hotel, 101 N. Main St.,

Additional documentation has been received for the following resource:

MINNESOTA

Ramsey County

Church of St. Casimir—Catholic, 937 E. Jessamine Ave., St. Paul, AD83000939

Authority: 60.13 of 36 CFR part 60

Dated: December 13, 2017.
J. Paul Loether,
Chief, National Register of Historic Places/National Historic Landmarks Program and Keeper, National Register of Historic Places.

[FR Doc. 2017-28467 Filed 1-3-18; 8:45 am]

BILLING CODE 4312-52-P